DEPARTMENT OF AGRICULTURE

Rural Housing Service

Notice of Intent To Hold Public Forums To Solicit Feedback From the Public Regarding the Section 523 Mutual Self-Help Housing Program

AGENCY: Rural Housing Service, USDA.

ACTION: Notice.

SUMMARY: The Rural Housing Service, USDA published a document in the Federal Register of February 2, 2010, concerning upcoming public forums and request for comments regarding the Section 523 Mutual Self-Help Housing Program. There has been a change in the date to receive written comments, a change in one of the forum dates and a change in contact information.

FOR FURTHER INFORMATION CONTACT: Carolyn L. Bell, Chief, Special Program and New Initiatives Branch, Single Family Housing Direct Loan Division, Rural Housing Service, USDA at 1400 Independence Avenue, SW., Stop 0783, Washington, DC 20250-0783, telephone (202) 720-1532, fax: (202) 720-2232, e-mail carolyn.bell@wdc.usda.gov.

SUPPLEMENTARY INFORMATION: The date for all written questions and comments to be received has been changed to July 15, 2010, and the date for Washington, DC has been changed to June 30, 2010.

Dated: April 9, 2010.
Kathy Mcentee,
Acting Administrator, Rural Housing Service.

[FR Doc. 2010-8907 Filed 4-16-10; 8:45 am]

BILLING CODE 3410-XV-P